DEPARTMENT OF COMMERCE

National Oceanic and Atmospheric Administration

[I.D. 041300B]

Endangered Species; Permits

AGENCY: National Marine Fisheries Service (NMFS), National Oceanic and Atmospheric Administration (NOAA), Commerce.

ACTION: Receipt of an application for a scientific research permit (1249); receipt of applications to modify permits (1115, 1156, 1193); and issuance of modifications to an existing permit (1048).

SUMMARY: Notice is hereby given of the following actions regarding permits for takes of endangered and threatened species for the purposes of scientific research and/or enhancement:

NMFS has received a permit application from Mr. E.P. Taft, of Alden Research Laboratory (ALR) (1249); NMFS has received applications for permit modifications from: Chelan County Public Utility District No. 1 at Wenatchee, WA (CCPUD)(1115), the U.S. Environmental Protection Agency at Corvallis, OR (EPA)(1156), and the Fish Passage Center at Portland, OR (FPC)(1193); and NMFS has issued modifications to a scientific research permit to the Sonoma County Water Agency (SCWA) (1048).

DATES: Comments or requests for a public hearing on any of the new applications or modification requests must be received at the appropriate address or fax number (see ADDRESSES) no later than 5 p.m. eastern daylight time on May 19, 2000.

ADDRESSES: Written comments on the new application or any of the new modification requests should be sent to the appropriate office as indicated below. Comments may also be sent via fax to the number indicated for the application or modification request. Comments will not be accepted if submitted via e-mail or the internet. The applications and related documents are available for review in the indicated office, by appointment:

For permits 1115, 1156, 1193: Protected Resources Division, F/NWO3, 525 NE Oregon Street, Suite 500, Portland, OR 97232-2737 (ph: 503-230-5400, fax: 503-230-5435).

For permit 1048: Protected Species Division, NMFS, 777 Sonoma Avenue, Room 325, Santa Rosa, CA 95404-6528 (ph: 707-575-6066, fax: 707-578-3435).

For permit 1249: Office of Protected Resources, Endangered Species Division, F/PR3, 1315 East-West Highway, Silver Spring, MD 20910 (ph: 301-713-1401, fax: 301-713-0376).

Documents may also be reviewed by appointment in the Office of Protected Resources, F/PR3, NMFS, 1315 East-West Highway, Silver Spring, MD 20910-3226 (301-713-1401).

FOR FURTHER INFORMATION CONTACT: For permit 1249: Terri Jordan, Silver Spring, MD (ph: 301-713-1401, fax: 301-713-0376, e-mail: Terri.Jordan@noaa.gov).

For permit 1048: Dan Logan, Protected Resources Division, Santa Rosa, CA (ph: 707-575-6053, fax: 707-578-3435, e-mail: Dan.Logan@noaa.gov).

For permits 1156, 1193: Leslie Schaeffer, Portland, OR (ph: 503-230-5433, fax: 503-230-5435, e-mail: Leslie.Schaeffer@noaa.gov).

For permit 1115: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species, evolutionarily significant units (ESU's), and runs are covered in this notice:

Chinook salmon (Oncorhynchus tshawytscha): threatened Snake River (SnR) spring/summer, threatened SnR fall, endangered upper Columbia River (UCR) spring, threatened Puget Sound (PS), threatened Upper Willamette River (UWR), threatened Lower Columbia River (LCR).

Coho salmon (O. kisutch): threatened Southern Oregon/Northern California Coast (SONCC), threatened Central California Coast (CCC).

Sockeye salmon (O. nerka): endangered SnR.

Steelhead (O. mykiss): endangered UCR, threatened middle Columbia River (MCR), threatened SnR, threatened LCR.

Shortnose sturgeon (Acipenser brevirostrum).

To date, final protective regulations for threatened PS, UWR, and LCR chinook salmon and SnR, MCR, and LCR steelhead under section 4(d) of the ESA have not been promulgated by NMFS. Protective regulations are currently proposed for PS, UWR, and LCR chinook salmon (65 FR 169, January 3, 2000) and SnR, MCR, and LCR steelhead (64 FR 73479, December 30, 1999). This notice of receipt of applications requesting takes of these species is issued as a precaution in the event that NMFS issues final protective regulations. The initiation of a 30-day public comment period on the applications, including their proposed takes of PS, UWR, and LCR chinook salmon and SnR, MCR, and LCR steelhead does not presuppose the contents of the eventual final protective regulations.

New Application Received

ARL (1249) requested a 2-year permit to take a maximum of 200 1+ yr captively bred shortnose sturgeon from the Conte Anadromous Fish Research Center to conduct applied fish passage facility research and development, with the intent of identifying what fish passage design and operating conditions are necessary to maximize biological effectiveness of shortnose sturgeon diversion around dams in the Connecticut and Santee-Cooper River systems.

Modification Requests Received

CCPUD requests a modification to permit 1115, which authorizes annual takes of adult and juvenile naturally produced and artificially propagated UCR spring chinook salmon and adult and juvenile naturally produced and artificially propagated UCR steelhead associated with six fish passage studies at Rocky Reach Dam, Rock Island Dam, and the Lake Chelan hydroelectric project on the Columbia River. The goals of the research are: (1) to evaluate the juvenile fish bypass systems at the mainstem river dams, (2) to monitor juvenile fish gas bubble trauma at the dams, (3) to develop operational measures that will enhance adult steelhead passage survival at the dams, (4) to evaluate new acoustic tagging technology used to monitor the behavior of juvenile salmonids as they migrate through passage facilities at Rocky Reach Dam, (5) to use passive integrated transponder (PIT) and radio tagging technology to assess the survival of juvenile salmonids at the dams, and (6) to determine the types and numbers of adult salmonids that may be present in the Lake Chelan bypass reach after spill at the Lake Chelan hydroelectric project is curtailed. Results from the research will be used to improve the operation of fish passage facilities at the dams, determine how fish are affected by gas bubbles and what can be done to minimize gas bubble trauma, evaluate the relative benefits of PIT and radio tagging technologies, and identify a mitigation strategy to protect anadromous fish that may become stranded in the Lake Chelan bypass reach after spill is curtailed. For the modification, CCPUD requests an increase in the annual takes of juvenile naturally produced and artificially propagated UCR spring chinook salmon and juvenile naturally produced UCR steelhead associated with Studies 1, 2, 4, and 5. Associated increases in ESA-listed juvenile fish indirect mortalities are also requested. The modification is requested to be valid for the duration of permit 1115, which expires on December 31, 2002.

On April 7, 2000, NMFS published a notice in the Federal Register (65 FR 18310) that an application had been received from EPA for a modification request to permit 1156. For the modification EPA had requested an annual take of juvenile naturally produced and artificially propagated UCR spring chinook salmon, juvenile naturally produced and artificially propagated PS chinook salmon, juvenile UWR chinook salmon, juvenile SnR steelhead, juvenile naturally produced and artificially propagated UCR steelhead, juvenile MCR steelhead, and juvenile LCR steelhead associated with research designed to collect data to enforce the Clean Water Act in the Pacific Northwest. NMFS has received an amendment of EPA's application for a modification to permit 1156. In the application amendment, EPA requests an annual take of LCR chinook salmon associated with the research. The additional species is requested because an additional sampling location has been added to the research to accommodate and coordinate with the Regional Environmental Monitoring and Assessment Program in the Cascades Ecoregion. The ESA-listed fish are proposed to be captured using electrofishing, examined, and released. The modification as amended is requested to be valid for the duration of the permit, which expires on December 31, 2002.

FPC requests a modification to permit 1193, which authorizes annual takes of juvenile SnR sockeye salmon, juvenile SnR fall chinook salmon, juvenile naturally produced and artificially propagated SnR spring chinook salmon, juvenile naturally produced and artificially propagated UCR spring chinook salmon, and juvenile naturally produced and artificially propagated UCR steelhead associated with FPC's Smolt Monitoring Program at the hydropower dams on the Snake and Columbia Rivers in the Pacific Northwest. For the modification, FPC requests annual takes of juvenile MCR steelhead and juvenile LCR chinook salmon and an increase in the annual takes of juvenile SnR fall chinook salmon and juvenile naturally produced and artificially propagated SnR spring/summer chinook salmon associated with the research. The increased take is requested because a larger than anticipated outmigration run of these ESA-listed species is estimated in 2000 and to provide a sufficient number of tagged fish to develop statistically significant survival estimates. Tagged fish are proposed to be used to provide information relative to fish migration timing through the Columbia Basin hydrosystem. ESA-listed juvenile fish are proposed to be captured, handled (examined and/or PIT tagged), and released. Associated increases in ESA-listed juvenile fish indirect mortalities are also requested. The modification is requested to be valid for the duration of permit 1193, which expires on December 31, 2003.

Permit Modification Issued

Notice was published on March 25, 1999 (64 FR 14432), that SCWA had applied for a modification to permit 1048 to take threatened Central California Coast coho salmon. Modification 1 to Permit 1048 was issued on April 5, 2000, and authorizes an increase in annual intentional take of adult, juvenile, and carcasses of threatened CCC coho salmon associated with fish population and habitat studies within the Russian River basin of the CCC coho salmon ESU. The scientific research consists of five assessment tasks for which ESA-listed fish will be taken: (1) Population trend estimates, (2) carcass counts, (3) redd surveys, (4) acquisition of tissue and scale samples for genetic analysis; and (5) habitat quality evaluation. A corresponding increase in unintentional mortalities is in ESA-listed adult and juvenile salmon is authorized. Modification 1 is valid for the duration of permit 1048, which expires June 30, 2002.

Dated: April 13, 2000.
Craig Johnson,
Acting Chief, Endangered Species Division, Office of Protected Resources, National Marine Fisheries Service.

[FR Doc. 00-9845 Filed 4-18-00; 8:45 am]

BILLING CODE 3510-22-F